FEDERAL COMMUNICATIONS COMMISSION

Public Information Collections Approved by Office of Management and Budget

June 25, 2001.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Shoko B. Hair, Federal Communications Commission, (202) 418-1379.

Federal Communications Commission

OMB Control No.: 3060-0988.

Expiration Date: 12/31/2001.

Title: Election to Freeze Part 36 Categories and Allocations.

Form No.: N/A.

Respondents: Business or other for-profit.

Estimated Annual Burden: 700 respondents; .50 hours per response (avg.); 350 total annual burden hours (for all collections approved under this control number).

Estimated Annual Reporting and Recordkeeping Cost Burden: $0.

Frequency of Response: One-time Requirement; Third Party Disclosure.

Description: In a Report and Order issued in CC Docket No. 80-286, released May 22, 2001 (FCC 01-162), the Commission adopted the recommendation of the Federal-State Joint Board to impose an interim freeze of the Part 36 category relationships and jurisdictional cost allocation factors. Specifically, pending comprehensive reform of the Part 36 separations rules, the Commission adopted a freeze of all Part 36 category relationships and allocation factors for price cap carriers, and a freeze of all allocation factors for rate-of-return carriers. The interim freeze will be in effect for five years or until the Commission has completed comprehensive separations reform, whichever comes first. The Commission further concluded that several issues, including the separations treatment of Internet traffic, should be addressed in the context of comprehensive separations reform. The Commission believes that these measures will bring simplification and regulatory certainty to the separations process in a time of rapid market and technology changes until reform is completed. The Commission recognized that smaller rate-of-return ILECs, because of their differing business structures, would not be required to freeze both their Part 36 categories and allocation factors, unlike price cap carriers. The Commission found, however, that those rate-of-return carriers that desire to freeze their categories may elect to do so by July 1, 2001. Accordingly, the Commission adopted a final rule providing that rate-of-return carriers participating in the National Exchange Carrier Association (NECA or Association) tariffs should notify NECA by July 1, 2001, if they elect to freeze their categories. Rate-of-return carriers that do not participate in Association tariffs will be able to elect to freeze their categories by notifying the Commission of their election by July 1, 2001. The Commission will use the information to verify which rate of rate-of-return ILECs have decided to freeze their Part 36 categories, as well as their allocation factors. Obligation to respond: Required to obtain or retain benefits.

Public reporting burden for the collection of information is as noted above. Send comments regarding the burden estimate or any other aspect of the collections of information, including suggestions for reducing the burden to Performance Evaluation and Records Management, Washington, DC 20554.

Federal Communications Commission.
Magalie Roman Salas,
Secretary.

[FR Doc. 01-16478 Filed 6-29-01; 8:45 am]

BILLING CODE 6712-01-P